DEPARTMENT OF DEFENSE

Office of the Secretary

Defense Science Board; Notice of Advisory Committee Meetings

AGENCY: Department of Defense.

ACTION: Notice.

SUMMARY: The Defense Science Board Task Force on Integrating Sensor-Collected Intelligence will meet in closed session on September 25-26, 2007; at Science Applications International Corporation (SAIC), 4001 N. Fairfax Drive, Arlington, VA. The briefing will contain proprietary material and ensuing discussions will be at the collateral secret level.

The mission of the Defense Science Board is to advise the Secretary of Defense and the Under Secretary of Defense for Acquisition, Technology & Logistics on scientific and technical matters as they affect the perceived needs of the Department of Defense. At the meeting, the Defense Science Board Task Force will: Assess the sufficiency of support for U.S. military forces by current and planned intelligence, surveillance and reconnaissance systems.

The task force's findings and recommendations, pursuant to 41 CFR 102-3.140 through 102-3.165, will be presented and discussed by the membership of the Defense Science Board prior to being presented to the Government's decision maker. Pursuant to 41 CFR 102-3.120 and 102-3.150, the Designated Federal Office for the Defense Science Board will determine and announce the Federal Register when the findings and recommendations of the September 25-26, 2007 meeting are deliberated by the Defense Science Board.

Interested persons may submit a written statement for consideration by the Defense Science Board. Individuals submitting a written statement must submit their statement to the Designated Federal Official at the address detailed below, at any point, however, if a written statement is not received at least 10 calendar days prior to the meeting, which is the subject of this notice, then it may not be provided to or considered by the Defense Science Board. The Designated Federal Official will review all timely submissions with the Defense Science Board Chairperson, and ensure they are provided to members of the Defense Science Board before the meeting that is the subject of this notice.

FOR FURTHER INFORMATION CONTACT: MAJ Chad Lominac, USAF, Defense Science Board, 3140 Defense Pentagon, Room 3C553, Washington, DC 20301-3140, via e-mail at charles.lominac@osd.mil, or via phone at (703) 571-0081.

Dated: September 5, 2007.
C.R. Choate,
Alternate OSD Federal Register Liaison Officer, Department of Defense.

[FR Doc. 07-4467 Filed 9-11-07; 8:45 am]

BILLING CODE 5001-06-M